DEPARTMENT OF THE INTERIOR

Bureau of Land Management

[UT-010-1232-HB-UT17-24-1A]

Notice of Proposed Supplementary Rules on Public Lands in Utah

AGENCY: Bureau of Land Management, Interior.

ACTION: Proposed supplementary rules for certain public lands managed by the Bureau of Land Management within the Little Sahara Special Recreation Management Area (SMRA), Fillmore Field Office, Utah.

SUMMARY: The Bureau of Land Management (BLM) is proposing supplementary rules to apply to the public lands within the Little Sahara Special Recreation Management Area (SRMA), Fillmore Field Office, Utah. The rules are necessary for the management of actions, activities, and public use on certain public land which may have or are having adverse impacts on persons using public lands, on property, and on resources located on public lands located in, or acquired for inclusion within, the Little Sahara Recreation Management Area.

DATES: Comments on the proposed supplementary rules must be received or postmarked by 30 days after publication of this notice to be assured consideration. In developing final supplementary rules, BLM may not consider postmarked or received in person or by electronic mail after this date.

ADDRESSES: Mail: Bureau of Land Management 115 E 500 N, Fillmore, Utah 84631. Personal or messenger delivery: 115 E 500 N, Fillmore, Utah 84631.

FOR FURTHER INFORMATION CONTACT: Ferris Clegg, Bureau of Land Management, Richfield Field Office 150 East 900 North, Richfield, Utah 84701. Telephone (435) 896-1500.

SUPPLEMENTARY INFORMATION:

I. Public Comment Procedures

Please submit your comments on issues related to the proposed supplementary rules, in writing, according to the ADDRESSES section above. Comments on the proposed supplementary rules should be specific, should be confined to issues pertinent to the proposed supplementary rules, and should explain the reason for any recommended change. When possible, your comments should reference the specific section or paragraph of the proposal that you are addressing.

BLM may not necessarily consider or include in the Administrative Record for the final rule comments that BLM receives after the close of the comment period or comments delivered to an address other than those listed above.

BLM will make your comments, including your name and address, available for public review at the Fillmore Field Office address listed in ADDRESSES above during regular business hours (8 a.m. to 4:30 p.m., Monday through Friday, except Federal holidays). If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

II. Discussion of the Supplementary Rules

The Utah State Director of the Bureau of Land Management is establishing these supplementary rules which are necessary for the protection of persons, property and public lands and resources within the Little Sahara Special Recreation Management Area, lands acquired for inclusion in the Little Sahara Special Recreation Management Area, and all lands that may be incorporated into the Little Sahara Recreation Management Area, in the Fillmore Field Office, as provided for in 43 CFR 8365.1-6.

These rules are in addition to and supplement the rules found in 43 CFR part 8300.

The affected lands are located in the following areas:

Salt Lake Base Meridian

T.12S.,R.4W.

Sec. 19, lots 3 and 4, E½SW¼, and SE¼;

Sec. 20, W½SW¼, and SE¼SW¼;

Sec. 28, S½SW¼;

Sec. 29, W½NE¼, SE¼NE¼, W½, and SE¼;

Secs. 30 to 33, inclusive;

Sec. 34, SW¼NW¼, SW¼, and S½SE¼.

T.13S., R.4W.

Secs. 3 to 10, inclusive;

Sec. 15, N½,SW¼,N½SE¼, and SW¼SE¼;

Secs. 16 to 21, inclusive;

Sec. 22, NW¼,W½SW¼;

Sec. 28, lots 1, 2, 3, and 4;

Sec. 29, lots 1, 2, 3, and 4, SW¼NE¼, S½NW¼SW¼, and W½SE¼;

Sec. 30 and 31;

Sec 32, W½E½, W½.

T.14S., R4W.

Sec. 5, lots 1, 2, 3, and 4, S½N½, SW¼, and W½SE¼;

Secs. 6 and 7;

Sec. 8, W½

Sec. 17, W½NW¼;

Sec. 18. T.12S., R5W;

Sec. 24, S½;

Secs. 25 to 29, inclusive;

Secs. 30, SE¼NE¼,SE¼SW¼, and SE¼;

Secs. 31 to 36, inclusive.

T.13S., R5W.

Secs. 1 to 36, inclusive.

T.14S., R5W.

Secs. 1 to 5, inclusive;

Sec. 6, lots 1 to 9, inclusive, S½NE¼, SE¼NW¼, E½SW¼, and SE¼;

Sec. 7, E½;

Secs. 8 to 15, inclusive;

Sec. 16, N½;

Sec. 17, N½;

Sec. 18, NE¼NE¼;

Secs. 22 to 24, inclusive;

III. Procedural requirements

Executive Order 12866, Regulatory Planning and Review

These supplementary rules are not a significant regulatory action and are not subject to review by Office of Management and Budget under Executive Order 12866. These supplementary rules will not have an effect of $100 or more on the economy. They are directed at preventing unlawful personal behavior on public lands, for purposes of protecting public health and safety. They will not adversely affect, in a material way, the economy, productivity, competition, jobs, the environment, public health or safety, or state, local, or tribal governments or communities. They proposed supplementary rules will not create a serious inconsistency or otherwise interfere with an action taken or planned by another agency. The supplementary rules do not alter the budgetary effects of entitlements, grants, user fees, or loan programs or the right or obligations of their recipients; nor do they raise novel legal or policy issues. The supplementary rules merely enable BLM law enforcement personnel to enforce state law where appropriate on public lands.

Clarity on the Supplementary Rules

Executive Order 12866 requires each agency to write regulations that are easy to understand. We invite your comments on how to make this proposed rule easier to understand, including answers to questions such as the following:

(1) Are the requirements in the proposed rule clearly stated?

(2) Does the proposed rule contain technical language or jargon that interferes with its clarity?

(3) Does the format of the proposed rule (grouping and order of sections, use of headings, paragraphing, etc.) aid or reduce its clarity?

(4) Would the rule be easier to understand if it were divided into more (but shorter) sections? (A “section” appears in Bold type and is preceded by the abbreviation “Sec.” and a numbered heading; for example, Sec. 1.3 Protective Headgear.)

(5) Is the description of the proposed rule in the SUPPLEMENTARY INFORMATION section of this preamble helpful in understanding the proposed rule? What else could we do to make the proposed rule easier to understand?

If you have any comments that concern how we could make this proposed rule easier to understand, in addition to sending the original to the address shown in ADDRESSES, above, please send a copy to: Office of Regulatory Affairs, Department of the Interior, Room 7229, 1849 C Street NW., Washington, DC 20240. You may also e-mail the comments to this address: Execsec@ios.doi.gov.

National Environmental Policy Act

BLM has prepared an environmental assessment (EA) and has found that the proposed supplementary rules would not constitute a major Federal action significantly affecting the quality of the human environment under section 102(2)(C) of the Environmental Protection Act of 1969 (NEPA), 42 U.S.C. 4332(2)(C). The proposed supplementary rules will enable BLM law enforcement personnel to cite persons not obeying the rules of the Little Sahara Recreation Area for the purpose of protecting public health and safety. BLM has placed the EA and the Finding of NO Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact, either detrimental or beneficial, on a substantial number of small entities. The proposed supplementary rules do not pertain specifically to commercial or governmental entities of any size, but contain rules to protect the health and safety of individuals, property, and resources on the public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules pertain only to individuals who may use the public lands. In this respect, the regulation of such use is necessary to protect the public lands and facilities and those, including small business concessioners and outfitters, who use them. The supplementary rules have no effect on business-commercial or industrial use of the public lands.

Unfunded Mandates Reform Act

These proposed supplementary rules do not impose an unfunded mandate on State, local, or tribal governments or the private sector of more than $100 million per year; nor do these proposed supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions, and Interference With Constitutionally Protected Property Rights (Takings)

The proposed supplementary rules do not represent a government action capable of interfering with constitutionally protected property rights. The supplementary rules do not address property rights in any form, and do not cause the impairment of anyone's property rights. Therefore, the Department of the Interior has determined that the supplementary rules would not cause a taking of private property or require further discussion of takings implications under this Executive Order.

Executive Order 13132, Federalism

The proposed supplementary rules will not have a substantial direct effect on the States, on the relationship between the national government and the States, or on the distribution of power and responsibilities among the various levels of government. The supplementary rules apply in only one State, Utah, and do not address jurisdictional issues involving the State government. Therefore, in accordance with Executive Order 13132, BLM has determined that these proposed supplementary rules do not have sufficient Federalism implications to warrant preparation of a Federalism Assessment.

Executive Order 12988, Civil Justice Reform

Under Executive Order 12988, Utah State Office of BLM has determined that these proposed supplementary rules would not unduly burden the judicial system and that they meet the requirements of sections 3(a) and 3(b)(2) of the Order.

Paperwork Reduction Act

These proposed supplementary rules do not contain information collection requirements that the Office of Management and Budget must approve under the Paperwork Reduction Act of 1995, 44 U.S.C. 3501 et seq.

Author

The principal author of this supplementary rules is Ferris Clegg of the Fillmore Field Office, BLM.

Dated: October 17, 2001.
Sally Wisely,
State Director.

[Editorial Note: This document was received at the Office of the Federal Register on August 16, 2002.]

Supplementary Rules, Little Sahara Special Recreation Management Area

Sec. 1.0 Vehicle Equipment Requirements

Sec. 1.1 Safety Flags

a. A safety flag is required on all off-highway vehicles. This includes all all-terrain vehicles (ATVs ), dirt bikes and dune buggies. You must not operate, or give any person permission to operate, an off-highway vehicle that is not equipped with a safety flag within the Little Sahara Special recreation Management Area.

b. The safety flag must be—

1. Red or orange in color and a minimum of six by 12 inches;

2. Attached to the off-highway vehicle in such a manner that the top of the flag is at least eight feet above the surface of level ground.

Sec. 1.2 Minimum Age

a. You must be 8 years of age or older to operate or ride on an off-highway vehicle within the Little Sahara Special Recreation Management Age.

b. You must not give any child under 8 years of age permission to operate any off-highway vehicle within the Little Sahara Special Recreation Management Area.

Sec. 1.3 Protective Headgear

a. You must not operate or ride on an off-highway vehicle within the Little Sahara Special Recreation Management Area unless you are wearing properly fitted, safety-rated protective headgear designed for motorized vehicle use, if you are under the age of 18.

b. You must not vie permission to any person under the age of 18 to operate or ride on an off-highway vehicle within the Little Sahara Special Recreation Management Area unless that person is wearing properly fitted, safety-rated protective headgear designed for motorized vehicle use.

Sec. 20 Prohibited Acts

Sec. 2.1 Government Property

Your must not vandalize, climb on or otherwise interfere or tamper with any building, structure, sign, water line water tank equipment, or any other government property or government contracted property within the Little Sahara Special Recreation Management Area.

Sec. 2.2 Spray Paint

The following are prohibited:

a. The use of spray paint or paint-ball guns within the Little Sahara Special Recreation Management Area except for:

1. The official business of any Federal, state, county, or local governmental entity, or

2. The necessary performance of work related to the maintenance or construction of any authorized improvements or facilities on public lands;

b. The possession of spray paint containers within the Little Sahara Special Management Area, except when such containers of spray paint are located—

1. In the trunk of a motor vehicle; or

2. In some other portion of the motor vehicle designed for the storage of luggage and not normally occupied by or readily accessible to the operator or passengers, if the motor vehicle is not equipped with a trunk.

Sec. 2.3 Glass Containers

Within the Little Sahara Special Recreation Management Area, you must not possess glass containers outside of vehicles, camp trailers, or tents.

Sec. 2.4 Bonfires

You must not knowingly create or maintain any large bonfire within the area of Little Sahara Special Recreation Management Area. For the purpose of this supplemental rule, a large bonfire means a fire with flames over three feet tall or a fire that cannot be contained in a 3-foot diameter area.

Sec. 2.5 Wooden Pallets

You must not bring into the Little Sahara Special Recreation Management Area or possess within the Little Sahara Special Recreation Management Area any pallets or lumber or wood products with nails or other metal objects affixed to such wood, lumber or wood products. You may carry or possess wood or lumber so long as they do not have nails or other metal objects attached to them.

Sec. 3.0 Permits and Fees

Sec. 3.1 Fees

Except as provided in Sec. 3.2 of these supplementary rules—

a. You must not enter the Little Sahara Special Recreation Management Area by any means or ways, public or private, without properly paying required fees.

b. Your must not enter, camp, park, or stay longer than one hour within the Little Sahara Special Recreation Management Area without properly paying required fees.

Sec. 3.2 Contracts

a. You may not enter the Little Sahara Special Recreation Management Area without paying required fees, unless you have a current annual pass contract or obtain a temporary contract in lieu of fees from BLM and sign it in the presence of the issuing officer.

b. You must not violate the terms, conditions, and stipulations of your current annual pass contract or a temporary contract in lieu of fees under paragraph a. of this section.

Sec. 4.0 Penalties

Under the Federal Land Policy and Management Act of 1976 (43 U.S.C. 1733(a)), if you knowingly and willfully violate or fail to comply with any of the supplementary rules provided in this notice you may be subject to a fine under 18 U.S.C. 3571 or other penalties in accordance with 43 U.S.C. 1733.

[FR Doc. 02-21388 Filed 8-21-02; 8:45 am]

BILLING CODE 4110-DQ-M